DEPARTMENT OF TRANSPORTATION

Federal Aviation Administration

14 CFR Part 39

[Docket No. 2003-CE-17-AD; Amendment 39-13150; AD 2003-10-05]

RIN 2120-AA64

Airworthiness Directives; Raytheon Aircraft Company Model 390 Airplanes

AGENCY: Federal Aviation Administration, DOT.

ACTION: Final rule; request for comments.

SUMMARY: This amendment adopts a new airworthiness directive (AD) that applies to certain Raytheon Aircraft Company (Raytheon) Model 390 airplanes. This AD requires you to incorporate information into the FAA-approved Airplane Flight Manual (AFM) that would add requirements for “Landing Performance for Operation of the Airplane with Lift Dump Inoperative.” This AD is the result of two accidents on the affected airplanes where a contributing factor was the lift dump spoilers failing to deploy when commanded after the initial landing. The FAA previously issued AD 2003-07-09 affecting certain Model 390 airplanes. However, the airplane serial numbers included in this AD were inadvertently omitted from AD 2003-07-09. The actions specified by this AD are intended to require the use of necessary flight information to prevent runway overruns based on insufficient wheel braking if the lift dump spoilers do not operate after landing touchdown. This could result in reduced or loss of control of the airplane.

DATES: This AD becomes effective on May 30, 2003.

The Director of the Federal Register previously approved the incorporation by reference of certain publications listed in the regulation as of April 7, 2003 (68 FR 16205, April 3, 2003).

The Federal Aviation Administration (FAA) must receive any comments on this rule on or before July 2, 2003.

ADDRESSES: Submit comments to FAA, Central Region, Office of the Regional Counsel, Attention: Rules Docket No. 2003-CE-17-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-17-AD” in the subject line. If you send comments electronically as attached electronic files, the files must be formatted in Microsoft Word 97 for Windows or ASCII text.

You may get the service information referenced in this AD from Raytheon Aircraft Company, 9709 E. Central, Wichita, Kansas 67201-0085; telephone: (800) 429-5372 or (316) 676-3140. You may view this information at FAA, Central Region, Office of the Regional Counsel, Attention: Rules Docket No. 2003-CE-17-AD, 901 Locust, Room 506, Kansas City, Missouri 64106; or at the Office of the Federal Register, 800 North Capitol Street, NW, suite 700, Washington, DC.

FOR FURTHER INFORMATION CONTACT: Derek Morgan, Flight Test Engineer, FAA, Wichita Aircraft Certification Office, 1801 Airport Road, Room 100, Wichita, Kansas 67209; telephone: (316) 946-4172; facsimile: (316) 946-4107.

SUPPLEMENTARY INFORMATION:

Discussion

What Events Have Caused This AD?

The FAA has received information of an unsafe condition on Raytheon Model 390 airplanes. The current procedure for an annunciated lift dump failure is to increase landing distance by a factor of 1.53. In two recent accidents of these airplanes, the lift dump spoilers failed to deploy when commanded after touchdown.

Whether loss of lift dump is annunciated or unannunciated after touchdown, the pilot (in most instances) does not have enough time to take effective corrective action.

The FAA issued AD 2003-07-09 (68 FR 16203) on March 27, 2003, affecting certain Model 390 airplanes. However, airplane serial numbers RB-18 through RB-24 included in this AD were inadvertently omitted from AD 2003-07-09.

What Are the Consequences if the Condition Is Not Corrected?

Without requiring the use of necessary flight information, runway overruns based on insufficient wheel braking could occur if the lift dump spoilers do not operate after landing touchdown. This could result in reduced or loss of control of the airplane.

Is There Service Information That Applies to This Subject?

Raytheon has issued Temporary Change to the FAA Approved Airplane Flight Manual P/N 390-590001-0003BTC5A1, revised March 24, 2003. This document:

—Replaces the existing landing distance and brake energy charts with ones that reflect landing performance without the effects of lift dump spoilers; and

—Modifies all operating limitations to specify the use of these landing charts in determining the maximum landing weight.

Raytheon is working toward a design that would eliminate the need for this Temporary AFM Change.

The FAA's Determination and an Explanation of the Provisions of This AD

What Has FAA Decided?

The FAA has reviewed all available information, including the service information referenced above; and determined that:

—The unsafe condition referenced in this document exists or could develop on other Raytheon Model 390 airplanes of the same type design;

—The information specified in the previously-referenced service information should be incorporated into the FAA-approved AFM; and

—AD action should be taken in order to correct this unsafe condition.

What Does This AD Require?

This AD requires you to incorporate the previously-referenced service information into the FAA-approved AFM, which would add requirements for “Landing Performance for Operation of the Airplane with Lift Dump Inoperative.”

As specified previously, Raytheon is working toward a design that would eliminate the need for these requirements. If completed, FAA will evaluate and determine whether additional regulatory action is necessary.

In preparation of this rule, we contacted type clubs and aircraft operators to obtain technical information and information on operational and economic impacts. We did not receive any information through these contacts. If received, we would have included, in the rulemaking docket, a discussion of any information that may have influenced this action.

How Does the Revision to 14 CFR Part 39 Affect This AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Will I Have the Opportunity To Comment Prior to the Issuance of the Rule?

Because the unsafe condition described in this document could result in reduced or loss of control of the airplane during landing operations, we find that notice and opportunity for public prior comment are impracticable. Therefore, good cause exists for making this amendment effective in less than 30 days.

Comments Invited

How Do I Comment on This AD?

Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of the AD action and determining whether we need to take additional rulemaking action.

Are There Any Specific Portions of the AD I Should Pay Attention to?

We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How Can I Be Sure FAA Receives My Comment?

If you want us to acknowledge the receipt of your comments, you must include a self-addressed, stamped postcard. On the postcard, write “Comments to Docket No. 2003-CE-17-AD.” We will date stamp and mail the postcard back to you.

Regulatory Impact

Does This AD Impact Various Entities?

These regulations will not have a substantial direct effect on the States, on the relationship between the national Government and the States, or on the distribution of power and responsibilities among the various levels of government. Therefore, FAA has determined that this final rule does not have federalism implications under Executive Order 13132.

Does This AD Involve a Significant Rule or Regulatory Action?

We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2003-10-05 Raytheon Aircraft Company: Amendment 39-13150; Docket No. 2003-CE-17-AD.

(a) What airplanes are affected by this AD? This AD applies to Model 390 airplanes, serial numbers RB-18 through RB-24, that are certificated in any category.

(b) Who must comply with this AD? Anyone who wishes to operate any of the airplanes identified in paragraph (a) of this AD must comply with this AD.

(c) What problem does this AD address? The actions specified by this AD are intended to require the use of necessary flight information to prevent runway overruns based on insufficient wheel braking if the lift dump spoilers do not operate after landing touchdown. This could result in reduced or loss of control of the airplane.

(d) What must I do to address this problem? To address this problem, you must accomplish the following actions:

Actions | Compliance
(1) Incorporate information into the FAA-approved Airplane Flight Manual (AFM) that would add requirements for “Landing Performance for Operation of the Airplane with Lift Dump Inoperative.” Accomplish this action by inserting Raytheon Temporary Change to the FAA Approved Airplane Flight Manual P/N 390-590001-0003BTC5A1, revised March 24, 2003 | Within the next 5 hours time-in-service (TIS) after May 30, 2003 (the effective date of this AD).
(2) The owner/operator holding at least a private pilot certificate as authorized by section 43.7 of the Federal Aviation Regulations (14 CFR 43.7) may incorporate into the AFM the information specified in paragraph (d)(1) of this AD. Make an entry into the aircraft records showing compliance with this portion of the AD in accordance with section 43.9 of the Federal Aviation Regulations (14 CFR 43.9) | Within the next 5 hours TIS after May 30, 2003 (the effective date of this AD).

(e) Are special flight permits authorized for this AD? Special flight permits are not authorized for this AD. On July 10, 2002, FAA published a new version of 14 CFR part 39 (67 FR 47997, July 22, 2002), which governs FAA's AD system. Part of this amendment to 14 CFR part 39 authorized special flight permits for all ADs, unless specified otherwise. Because the owner/operator holding an appropriate pilot's license may accomplish the action of this AD and the compliance time is 5 hours TIS after the AD effective date, FAA has determined that special flight permits are not necessary for this AD.

(f) Can I comply with this AD in any other way? To use an alternative method of compliance or adjust the compliance time, follow the procedures in 14 CFR 39.19. Send these requests to the Manager, Wichita Aircraft Certification Office (ACO). For information on any already approved alternative methods of compliance, contact Derek Morgan, Flight Test Engineer, FAA, Wichita Aircraft Certification Office, 1801 Airport Road, Room 100, Wichita, Kansas 67209; telephone: (316) 946-4172; facsimile: (316) 946-4107.

(g) Are any service bulletins incorporated into this AD by reference? Actions required by this AD must be done in accordance with Raytheon Temporary Change to the FAA Approved Airplane Flight Manual P/N 390-590001-0003BTC5A1, revised March 24, 2003. The Director of the Federal Register previously approved this incorporation by reference under 5 U.S.C. 552(a) and 1 CFR part 51 as of April 7, 2003 (68 FR 16205, April 3, 2003). You can get copies from Raytheon Aircraft Company, 9709 E. Central, Wichita, Kansas 67201-0085; telephone: (800) 429-5372 or (316) 676-3140. You may view this information at FAA, Central Region, Office of the Regional Counsel, 901 Locust, Room 506, Kansas City, Missouri, or at the Office of the Federal Register, 800 North Capitol Street, NW., suite 700, Washington, DC.

(h) When does this amendment become effective? This amendment becomes effective on May 30, 2003.

Issued in Kansas City, Missouri, on May 12, 2003.
Michael Gallagher,
Manager, Small Airplane Directorate, Aircraft Certification Service.

[FR Doc. 03-12240 Filed 5-15-03; 8:45 am]

BILLING CODE 4910-13-P